NATIONAL AERONAUTICS AND SPACE ADMINISTRATION

[Notice (03-026)]

Notice of Prospective Patent License

AGENCY: National Aeronautics and Space Administration.

ACTION: Notice of prospective patent license.

SUMMARY: NASA hereby gives notice that Circuit Avenue Netrepreneurs, LLC, of Camden, New Jersey, has applied for a partially exclusive license to practice the invention described and in NASA Case No. ARC-14480-1, entitled “An Approach to Automating the Manipulation of Information,” for which a Patent Application was filed and assigned to the United States of America as represented by the Administrator of the National Aeronautics and Space Administration. The fields of use will include medical devices; monitoring and controlling; chemical, research and manufacturing; pharmaceutical, research and manufacturing; and biotechnology, research and manufacturing. Written objections to the prospective grant of a license should be sent to the Ames Research Center.

DATES: Responses to this notice must be received by March 14, 2003.

FOR FURTHER INFORMATION CONTACT: Rob Padilla, Patent Counsel, NASA Ames Research Center, Mail Stop 202A-4, Moffett Field, CA 94035, telephone (650) 604-5104; fax (650) 604-2767.

Dated: February 20, 2003.
Robert M. Stephens,
Deputy General Counsel.

[FR Doc. 03-4569 Filed 2-26-03; 8:45 am]

BILLING CODE 7510-01-P